DEPARTMENT OF TRANSPORTATION

OFFICE OF THE SECRETARY

Notice of Aviation Proceedings

Aviation Proceedings, Agreements filed during the week ending November 17, 2000. The following Agreements were filed with the Department of Transportation under the provisions of 49 U.S.C. 412 and 414. Answers may be filed within 21 days after the filing of the application.

Docket Number: OST-2000-8282.

Date Filed: November 13, 2000.

Parties: Members of the International Air Transport Association.

Subject:

PTC123 0123 dated 7 November 2000—Mid Atlantic (r-1 to r-7)

PTC123 0124 dated 7 November 2000—South Atlantic (r-8 to r-20)

Fares: PTC123 Fares 0042 dated 7 November 2000 (Mid Atlantic)

PTC123 Fares 0043 dated 7 November 2000 (South Atlantic)

Intended effective date: 1 March 2001

Docket Number: OST-2000-8283.

Date Filed: November 13, 2000.

Parties: Members of the International Air Transport Association.

Subject:

PTC123 0122 dated 7 November 2000

TC123 North Atlantic Resolutions (r-1 to r-18)

Fares: PTC123 Fares 0041 dated 7 November 2000

Minutes—PTC123 0125 dated 10 November 2000

Intended effective date: 1 March 2001

Docket Number: OST-2000-8295.

Date Filed: November 14, 2000.

Parties: Members of the International Air Transport Association.

Subject:

CTC COMP 0322 dated 14 November 2000

Mail Vote 094—Resolution 033d

Intended effective date: 1 February 2001

Docket Number: OST-2000-8351.

Date Filed: November 17, 2000.

Parties: Members of the International Air Transport Association.

Subject:

PTC2 EUR 0347 dated 7 November 2000

TC2 Within Europe Expedited Resolution 002gg

PTC2 EUR 0348 dated 17 November 2000

TC2 Within Europe Expedited Resolutions 002nn, 078q, 078y

Intended Effective Dates: 15 December 2000, 5 January 2001

Dorothy Y. Beard,
Federal Register Liaison.

[FR Doc. 00-31924 Filed 12-13-00; 8:45 am]

BILLING CODE 4910-62-P